DEPARTMENT OF ENERGY

Federal Energy Regulatory Commission

[Project No. 15234-000]

Nature and People First Arizona PHS, LLS; Notice of Preliminary Permit Application Accepted for Filing and Soliciting Comments, Motions To Intervene, and Competing Applications

On October 5, 2021, Nature and People First Arizona PHS, LLC (NFPA) filed an application for a preliminary permit, pursuant to section 4(f) of the Federal Power Act (FPA), proposing to study the feasibility of Black Mesa Pumped Storage Project East to be located in Navajo County, Arizona. The sole purpose of a preliminary permit, if issued, is to grant the permit holder priority to file a license application during the permit term. A preliminary permit does not authorize the permit holder to perform any land-disturbing activities or otherwise enter upon lands or waters owned by others without the owners' express permission.

The proposed project would consist of the following: (1) a new upper reservoir west with a surface area of 2,700 acres and a total storage capacity of 55,000 acre-feet at a normal maximum operating elevation of 7,510 feet average mean sea level (msl); (2) a new upper reservoir east with a surface area of 1,300 acres and a total storage capacity of 45,000 acre-feet at a normal maximum operating elevation of 7,510 feet msl; (3) a new lower reservoir with a surface area of 2,800 acres and a total storage capacity of 100,000 acre-feet at a normal maximum operating elevation of 5,810 feet msl; (4) a 15,500-foot-long, 23-foot-diameter concrete lined tunnel and 2,000-foot-long with three 18-foot-diameter concrete lined draft tube tunnel penstock connecting the upper and lower reservoir west to the powerhouse; (5) a 9,100-foot-long, 23-foot-diameter concrete lined tunnel and 2,400-foot-long with three 18-foot-diameter concrete lined draft tube tunnel penstock connecting the upper and lower reservoir east to the powerhouse; (6) two 320-foot-long, 60-foot-wide and 100-foot-high new underground powerhouses containing three turbine-generator units each with a total rated capacity of 1,500 megawatts; (7) a new 110-mile-long, 230-kilovolt (kV) transmission line connecting the powerhouses to Shiprock's existing substation; and (8) appurtenant facilities. The estimated annual power generation at the Black Mesa Pumped Storage East would be 3,285 gigawatt-hours.

Applicant Contact: Mr. Denis Payre, President and CEO, Nature and People First Arizona PHS, LLC 405 Waltham St., Suite 145, Lexington, MA 02421, Denis.Payre@natureandpeoplefirst.com.

FERC Contact: Ousmane Sidibe; Phone: (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15234-000.

More information about this project, including a copy of the application, can be viewed or printed on the “eLibrary” link of Commission's website at https://www.ferc.gov/ferc-online/elibrary/overview. Enter the docket number (P-15234) in the docket number field to access the document. For assistance, contact FERC Online Support.

Dated: November 1, 2022.
Debbie-Anne A. Reese,
Deputy Secretary.

[FR Doc. 2022-24234 Filed 11-4-22; 8:45 am]

BILLING CODE 6717-01-P